FEDERAL COMMUNICATIONS COMMISSION

47 CFR Part 10

[PS Docket No. 15-91; PS Docket No. 15-94; FCC 18-4]

Wireless Emergency Alerts; Emergency Alert System; Correction

AGENCY: Federal Communications Commission.

ACTION: Final rule; correction.

SUMMARY: The Federal Communications Commission (Commission) published a document in the Federal Register of February 28, 2018, concerning revisions to Wireless Emergency Alert (WEA) rules to improve utility of WEA as a life-saving tool. The document contained an incorrect compliance date.

DATES: This correction is effective April 30, 2018.

FOR FURTHER INFORMATION CONTACT: James Wiley, Attorney Advisor, Cybersecurity and Communications Reliability Division, Public Safety and Homeland Security Bureau, at 202-418-2410.

SUPPLEMENTARY INFORMATION:

Correction

In the Federal Register of February 28, 2018, in FR Doc. 2018-03990, on page 8619, in the third column, correct the DATES caption to read:

DATES: Effective dates: The amendments to §§ 10.10 and 10.210 are effective April 30, 2018. The amendments to §§ 10.450 and 10.500 are effective November 30, 2019. The amendment to § 10.240 contains new or modified information collection requirements and will not be effective until those information collection requirements are approved by the Office of Management and Budget. The Federal Communications Commission will publish a document in the Federal Register announcing the effective date for the section.

Compliance dates: Participating CMS Providers must comply with the new point of sale disclosure rules by November 30, 2019, or as specified by publication in the Federal Register of a document announcing approval by the Office of Management and Budget (OMB) and the relevant effective date, whichever is later. CMS Providers are required to update their WEA election status within 120 days from the date of publication in the Federal Register of a document announcing approval by the Office of Management and Budget of the modified information collection requirements.

Applicability date: The requirement to support Spanish language Alert Messages in § 10.480 is applicable beginning May 1, 2019.

Federal Communications Commission.
Marlene H. Dortch,
Secretary, Office of the Secretary.

[FR Doc. 2018-04969 Filed 3-12-18; 8:45 am]

BILLING CODE 6712-01-P